DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2021, through January 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Sheri Esters, Coeur d'Alene, Idaho, Court of Federal Claims No: 21-0001V

2. Jacob Schriner, Wellesley Hills, California, Court of Federal Claims No: 21-0002V

3. Jade Bunnell, Virginia Beach, Virginia, Court of Federal Claims No: 21-0003V

4. Judith Resweber, Baton Rouge, Louisiana, Court of Federal Claims No: 21-0004V

5. Becky Cary-Hill, Duluth, Minnesota, Court of Federal Claims No: 21-0005V

6. Helene Tark, New York, New York, Court of Federal Claims No: 21-0006V

7. Katharine Wick, Wellesley Hills, Massachusetts, Court of Federal Claims No: 21-0007V

8. John Black, Denison, Texas, Court of Federal Claims No: 21-0009V

9. Darcy Cyr, Albany, New York, Court of Federal Claims No: 21-0012V

10. Maria Nino, Dallas, Texas, Court of Federal Claims No: 21-0013V

11. Renee Stidd, Nebraska City, Nebraska, Court of Federal Claims No: 21-0014V

12. Robert Miller, Lafayette, Georgia, Court of Federal Claims No: 21-0015V

13. Jessica McKnight, Aurora, Colorado, Court of Federal Claims No: 21-0016V

14. Mirna LaTorre, Goshen, New York, Court of Federal Claims No: 21-0017V

15. Cristina Houy, Brooklyn, New York, Court of Federal Claims No: 21-0018V

16. Jeanne Andrews, Charlton, Massachusetts, Court of Federal Claims No: 21-0019V

17. Elisa Advani, Morrisville, Pennsylvania, Court of Federal Claims No: 21-0020V

18. Karen Bean, Fullerton, California, Court of Federal Claims No: 21-0021V

19. Mitchell Frye, Eugene, Oregon, Court of Federal Claims No: 21-0022V

20. Mary Cheatwood, Anniston, Alabama, Court of Federal Claims No: 21-0023V

21. Michael Garrison, Forestdale, Massachusetts, Court of Federal Claims No: 21-0024V

22. Rosalind Cummings, Media, Pennsylvania, Court of Federal Claims No: 21-0025V

23. William Harry, Cherry Hill, New Jersey, Court of Federal Claims No: 21-0026V

24. Candice Killpack, Layton, Utah, Court of Federal Claims No: 21-0027V

25. Sanaa El-Tayib, West Caldwell, New Jersey, Court of Federal Claims No: 21-0028V

26. Candice Lombardo, New Haven, Connecticut, Court of Federal Claims No: 21-0029V

27. Shawn McKenna, Philadelphia, Pennsylvania, Court of Federal Claims No: 21-0030V

28. Michelle Mussehl, Madison, Wisconsin, Court of Federal Claims No: 21-0031V

29. Bruce Robinson, Radnor, Pennsylvania, Court of Federal Claims No: 21-0032V

30. Kimberly Schauffler, Yorktown Heights, New York, Court of Federal Claims No: 21-0033V

31. Timothy Dilweg, Boston, Massachusetts, Court of Federal Claims No: 21-0034V

32. Tomecca Cephus, Boston, Massachusetts, Court of Federal Claims No: 21-0035V

33. Sonal Patel, Dorchester, Massachusetts, Court of Federal Claims No: 21-0036V

34. Iane Montagnese, Boston, Massachusetts, Court of Federal Claims No: 21-0037V

35. Kristie Rinier, Cape May, New Jersey, Court of Federal Claims No: 21-0038V

36. Angel Squires, Boston, Massachusetts, Court of Federal Claims No: 21-0039V

37. Krystal Baucom on behalf of A. M., Concord, North Carolina, Court of Federal Claims No: 21-0040V

38. Lidija Zekanovic, Mt. Orab, Ohio, Court of Federal Claims No: 21-0041V

39. Stacey Welch on behalf of J. W., New Orleans, Louisiana, Court of Federal Claims No: 21-0042V

40. Gina Burgese, Springfield, Pennsylvania, Court of Federal Claims No: 21-0043V

41. Donna Valdez, Baytown, Texas, Court of Federal Claims No: 21-0044V

42. Terry L. Hansler Pont, Grants Pass, Oregon, Court of Federal Claims No: 21-0045V

43. Melissa Ferguson, Dayton, Ohio, Court of Federal Claims No: 21-0046V

44. Marnie Schmaltz, St. Petersburg, Florida, Court of Federal Claims No: 21-0047V

45. Yvette Alexander, Sweetwater, Tennessee, Court of Federal Claims No: 21-0048V

46. Raymond Cronin, Romulus, Michigan, Court of Federal Claims No: 21-0049V

47. Patricia Howard, Boston, Massachusetts, Court of Federal Claims No: 21-0050V

48. Jane Brennom, Wimauma, Florida, Court of Federal Claims No: 21-0051V

49. Randi Wender, Boston, Massachusetts, Court of Federal Claims No: 21-0052V

50. Cassie Williams, Mesa, Arizona, Court of Federal Claims No: 21-0053V

51. Andrea H. Olson, Osakis, Minnesota, Court of Federal Claims No: 21-0054V

52. Ellen Rodriguez, Skillman, New Jersey, Court of Federal Claims No: 21-0055V

53. Alicia Edwards, Sand Springs, Oklahoma, Court of Federal Claims No: 21-0056V

54. Graham Jewell, Charlotte, North Carolina, Court of Federal Claims No: 21-0057V

55. Norman Smith, Boston, Massachusetts, Court of Federal Claims No: 21-0058V

56. Brooke Biancucci, Binghamton, New York, Court of Federal Claims No: 21-0059V

57. Perry Walters, Houston, Texas, Court of Federal Claims No: 21-0060V

58. Geoffrey Miller, Boston, Massachusetts, Court of Federal Claims No: 21-0061V

59. Angelicque Taylor, Dresher, Pennsylvania, Court of Federal Claims No: 21-0062V

60. Lynette Smith, Seattle, Washington, Court of Federal Claims No: 21-0063V

61. Timothy Allen, Dresher, Pennsylvania, Court of Federal Claims No: 21-0064V

62. Jonathan Turnquest, Des Plaines, Illinois, Court of Federal Claims No: 21-0065V

63. Amy Schwalm, Schaumburg, Illinois, Court of Federal Claims No: 21-0066V

64. Nadine Campbell, Dresher, Pennsylvania, Court of Federal Claims No: 21-0067V

65. Mary Ross, San Antonio, Texas, Court of Federal Claims No: 21-0068V

66. Ashley Frei, Montoursville, Pennsylvania, Court of Federal Claims No: 21-0069V

67. Patricia Richardson, Tampa, Florida, Court of Federal Claims No: 21-0070V

68. Elsie McKay, Albany, Oregon, Court of Federal Claims No: 21-0071V

69. Jane McGraw, Orlando, Florida, Court of Federal Claims No: 21-0072V

70. Holly Adair, Austin, Texas, Court of Federal Claims No: 21-0073V

71. Marjorie Ganthier, New York, New York, Court of Federal Claims No: 21-0074V

72. Zakaria Asia, Austin, Texas, Court of Federal Claims No: 21-0075V

73. Heather Phillips, Tamaqua, Pennsylvania, Court of Federal Claims No: 21-0076V

74. Allison Axon, Dallas, Texas, Court of Federal Claims No: 21-0077V

75. Angela Baldocchi, Tuscaloosa, Alabama, Court of Federal Claims No: 21-0078V

76. Rebecca Knight, Petersburg, Alaska, Court of Federal Claims No: 21-0080V

77. Roland Barr, Stevenson, Washington, Court of Federal Claims No: 21-0081V

78. Kim Blessed, Raleigh, North Carolina, Court of Federal Claims No: 21-0082V

79. Lisa Brown, Bryan, Texas, Court of Federal Claims No: 21-0083V

80. Justin Burroughs, Port Orange, Florida, Court of Federal Claims No: 21-0084V

81. Vickie Calmese, Florissant, Missouri, Court of Federal Claims No: 21-0085V

82. Kimberly Cates, Raleigh, North Carolina, Court of Federal Claims No: 21-0086V

83. Terra Figueiredo, Pflugerville, Texas, Court of Federal Claims No: 21-0088V

84. Donna Arrogante, Dresher, Pennsylvania, Court of Federal Claims No: 21-0089V

85. Julie Hart, Plano, Texas, Court of Federal Claims No: 21-0090V

86. Matther Huber, Exton, Pennsylvania, Court of Federal Claims No: 21-0091V

87. Debra Weiss-Otterpohl, Princeton, New Jersey, Court of Federal Claims No: 21-0092V

88. Graciela Johnson, Temple, Texas, Court of Federal Claims No: 21-0093V

89. Jeffrey Marvel, Carmel, Indiana, Court of Federal Claims No: 21-0094V

90. Karen Knight, Ennis, Texas, Court of Federal Claims No: 21-0095V

91. Kathryn Sitton, Newport Beach, California, Court of Federal Claims No: 21-0096V

92. Jean Kraemer, Clinton Township, Michigan, Court of Federal Claims No: 21-0097V

93. Beth Ruge, Carmel, Indiana, Court of Federal Claims No: 21-0098V

94. Mandy Gammons on behalf of H. T., Goodlettsville, Tennessee, Court of Federal Claims No: 21-0099V

95. Julie Trevis, Encino, California, Court of Federal Claims No: 21-0100V

96. Samuel Beyer, Lansing, Michigan, Court of Federal Claims No: 21-0101V

97. Patti Rae Graham, Scottsdale, Arizona, Court of Federal Claims No: 21-0102V

98. Hafin Meryk Painter, American Fork, Utah, Court of Federal Claims No: 21-0103V

99. Misty Nuzzo, Nottingham, Maryland, Court of Federal Claims No: 21-0104V

100. Michelle Laing, Mission Viejo, California, Court of Federal Claims No: 21-0105V

101. Jennifer Glover, Murrieta, California, Court of Federal Claims No: 21-0106V

102. Fanny Rivera, Reading, Pennsylvania, Court of Federal Claims No: 21-0107V

103. Michael Leach, Bensalem, Pennsylvania, Court of Federal Claims No: 21-0108V

104. Christopher Lasak, San Diego, California, Court of Federal Claims No: 21-0109V

105. Paul Lieberman, Punta Gorda, Florida, Court of Federal Claims No: 21-0110V

106. John Murphy, Livingston, Montana, Court of Federal Claims No: 21-0111V

107. Gabriel Marian, Seattle, Washington, Court of Federal Claims No: 21-0112V

108. Alexandra Boyd, Gloucester, Massachusetts, Court of Federal Claims No: 21-0113V

109. Kristin Morgan, Rockford, Illinois, Court of Federal Claims No: 21-0114V

110. Shirley Poke, Tifton, Georgia, Court of Federal Claims No: 21-0115V

111. Montrell Riley, Flint, Michigan, Court of Federal Claims No: 21-0116V

112. Abby Rodriguez, Santa Fe, New Mexico, Court of Federal Claims No: 21-0117V

113. Hong Taing, Alpharetta, Georgia, Court of Federal Claims No: 21-0118V

114. Angel Thompson, Wesley Chapel, North Carolina, Court of Federal Claims No: 21-0119V

115. Anya Wallach, New York, New York, Court of Federal Claims No: 21-0120V

116. Gayla Randolph, Canton, Georgia, Court of Federal Claims No: 21-0121V

117. John B. Caraway, Kent Island, Maryland, Court of Federal Claims No: 21-0123V

118. Scott Speller, Washington, District of Columbia, Court of Federal Claims No: 21-0124V

119. Julia Edwards, Mebourne, Florida, Court of Federal Claims No: 21-0125V

120. Timothy Yannacone, Valatie, New York, Court of Federal Claims No: 21-0126V

121. Alisha Bullock, Boston, Massachusetts, Court of Federal Claims No: 21-0127V

122. Nicole Lung, North Chicago, Illinois, Court of Federal Claims No: 21-0128V

123. Kristen Dixon, Woodruff, Wisconsin, Court of Federal Claims No: 21-0129V

124. Sandra Eskenazi, Aventura, Florida, Court of Federal Claims No: 21-0130V

125. Dyan LaBelle, Milwaukee, Wisconsin, Court of Federal Claims No: 21-0131V

126. Eleanor Arreola, Dresher, Pennsylvania, Court of Federal Claims No: 21-0132V

127. John I. DeVey, III, Rochester, New York, Court of Federal Claims No: 21-0133V

128. Leah Davis, Boston, Massachusetts, Court of Federal Claims No: 21-0134V

129. Francisco Salgado, Dresher, Pennsylvania, Court of Federal Claims No: 21-0135V

130. Catherine Sullivan, Boston, Massachusetts, Court of Federal Claims No: 21-0136V

131. George Heidrich, Dresher, Pennsylvania, Court of Federal Claims No: 21-0137V

132. Nichole Dorio, Cleveland, Ohio, Court of Federal Claims No: 21-0138V

133. Ross McCammon, Webster, Texas, Court of Federal Claims No: 21-0139V

134. Kathy Blackmon, Pensacola, Florida, Court of Federal Claims No: 21-0140V

135. Tane Turrell, Boston, Massachusetts, Court of Federal Claims No: 21-0141V

136. Emma Jones, Dresher, Pennsylvania, Court of Federal Claims No: 21-0142V

137. Beth Guest, Rochester Hills, Michigan, Court of Federal Claims No: 21-0143V

138. Pamela Tripp, Boston, Massachusetts, Court of Federal Claims No: 21-0144V

139. Daniel Swadis, Philadelphia, Pennsylvania, Court of Federal Claims No: 21-0145V

140. Deborah Rau, Boston, Massachusetts, Court of Federal Claims No: 21-0146V

141. Suzanne Bauman, Littleton, Colorado, Court of Federal Claims No: 21-0147V

142. Jennifer Nicole Brown, Tampa, Florida, Court of Federal Claims No: 21-0148V

143. Hyunji Beatrice, New York, New York, Court of Federal Claims No: 21-0149V

144. Jeffie Snavely, Jasper, Alabama, Court of Federal Claims No: 21-0150V

145. Laura Turnquest, Des Plaines, Illinois, Court of Federal Claims No: 21-0151V

146. Stephanie Mitchell, Los Angeles, California, Court of Federal Claims No: 21-0152V

147. Stephanie Tompkins, Voorhees, New Jersey, Court of Federal Claims No: 21-0153V

148. Gertrude Brown, Woodbridge, Virginia, Court of Federal Claims No: 21-0155V

149. Craig Bauman, Marion, Illinois, Court of Federal Claims No: 21-0156V

150. Michael Hileman, Dresher, Pennsylvania, Court of Federal Claims No: 21-0157V

151. Monique Samayoa, Wilmington, North Carolina, Court of Federal Claims No: 21-0158V

152. Sharon Clayton, Victorville, California, Court of Federal Claims No: 21-0159V

153. Andrew Universal, Dresher, Pennsylvania, Court of Federal Claims No: 21-0160V

154. Baltazar Pedraza, Watsonville, California, Court of Federal Claims No: 21-0161V

155. Connie Glaholt, Overland Park, Kansas, Court of Federal Claims No: 21-0162V

156. Courtney Lane, Dresher, Pennsylvania, Court of Federal Claims No: 21-0163V

157. Tabitha Smith, Siloam Springs, Arkansas, Court of Federal Claims No: 21-0164V

158. Michael Berlin, Dresher, Pennsylvania, Court of Federal Claims No: 21-0165V

159. Harold Boling, Bel Air, Maryland, Court of Federal Claims No: 21-0166V

160. Sharon Brown, Summerville, South Carolina, Court of Federal Claims No: 21-0167V

161. Sheila Evans, Greensboro, North Carolina, Court of Federal Claims No: 21-0168V

162. Abraham Scott, Flowood, Mississippi, Court of Federal Claims No: 21-0169V

163. Noel Fie, Beverly Hills, California, Court of Federal Claims No: 21-0170V

164. Loralie Cioffi, Capitola, California, Court of Federal Claims No: 21-0171V

165. Fawn Edmondson, Las Vegas, Nevada, Court of Federal Claims No: 21-0172V

166. Kimberley Plachta, Waterford, Michigan, Court of Federal Claims No: 21-0173V

167. Janice Reeve, Everett, Washington, Court of Federal Claims No: 21-0174V

168. Kristi Kelley, Jackson, Mississippi, Court of Federal Claims No: 21-0175V

169. Karen Johnson, Burke, Virginia, Court of Federal Claims No: 21-0176V

170. Julia Shatlock, Atlanta, Georgia, Court of Federal Claims No: 21-0177V

171. Jacob Kovarskiy, Washington, District of Columbia, Court of Federal Claims No: 21-0178V

172. Donald Buford, Waupun, Wisconsin, Court of Federal Claims No: 21-0179V

173. Wyatt Regan, Washington, District of Columbia, Court of Federal Claims No: 21-0180V

174. Theresa Banks, Washington, District of Columbia, Court of Federal Claims No: 21-0181V

175. Celia Martinez, Las Vegas, Nevada, Court of Federal Claims No: 21-0182V

176. Rita Rekoff, Washington, District of Columbia, Court of Federal Claims No: 21-0183V

177. Nona Bobb, Washington, District of Columbia, Court of Federal Claims No: 21-0184V

178. Teresa Patterson, Albuquerque, New Mexico, Court of Federal Claims No: 21-0185V

179. Sophie Friedfeld-Gebaide, Dresher, Pennsylvania, Court of Federal Claims No: 21-0186V

180. Michelle Burkemper, Washington, District of Columbia, Court of Federal Claims No: 21-0187V

181. Vivian DiTomasso, Nashville, Tennessee, Court of Federal Claims No: 21-0188V

182. Patricia Groth, Washington, District of Columbia, Court of Federal Claims No: 21-0189V

183. Ronald Lorenz, Tucson, Arizona, Court of Federal Claims No: 21-0190V

184. Robin Wabbe, Dresher, Pennsylvania, Court of Federal Claims No: 21-0191V

185. Melissa Henry, Washington, District of Columbia, Court of Federal Claims No: 21-0192V

186. Richard Jones, Washington, District of Columbia, Court of Federal Claims No: 21-0193V

187. Gloria Caulfield, Washington, District of Columbia, Court of Federal Claims No: 21-0194V

188. Christina Lorenz, Tucson, Arizona, Court of Federal Claims No: 21-0195V

189. Andrew McRae, Washington, District of Columbia, Court of Federal Claims No: 21-0196V

190. John Clarke, Jr., Washington, District of Columbia, Court of Federal Claims No: 21-0197V

191. Karen Brown, Orchard Park, New York, Court of Federal Claims No: 21-0198V

192. Michelle Rorabaugh, Washington, District of Columbia, Court of Federal Claims No: 21-0199V

193. Jennifer Rivera, West Nyack, New York, Court of Federal Claims No: 21-0200V

194. Randolph Dennis, Washington, District of Columbia, Court of Federal Claims No: 21-0201V

195. Laurie Lara, Sonora, California, Court of Federal Claims No: 21-0202V

196. Kendra Sage, Washington, District of Columbia, Court of Federal Claims No: 21-0203V

197. Tammy Amorosso, Washington, District of Columbia, Court of Federal Claims No: 21-0204V

198. Amanda Salgado, Washington, District of Columbia, Court of Federal Claims No: 21-0205V

199. Danelle Bailey, Washington, District of Columbia, Court of Federal Claims No: 21-0206V

200. Amanda Grue, Washington, District of Columbia, Court of Federal Claims No: 21-0207V

201. Lisa Bates, Washington, District of Columbia, Court of Federal Claims No: 21-0208V

202. Brina Thurston, Dresher, Pennsylvania, Court of Federal Claims No: 21-0209V

203. Kimberly Holmes, Washington, District of Columbia, Court of Federal Claims No: 21-0210V

204. Robin Bernales, Washington, District of Columbia, Court of Federal Claims No: 21-0211V

205. David C. Johnson, Washington, District of Columbia, Court of Federal Claims No: 21-0212V

206. Margaret Nalwoga, Court of Federal Claims No: 21-0213V

207. Shari Kaui, Washington, District of Columbia, Court of Federal Claims No: 21-0214V

208. Sarah Crittenden, Washington, District of Columbia, Court of Federal Claims No: 21-0215V

209. Shirley Kurtinitis, Pittston, Pennsylvania, Court of Federal Claims No: 21-0216V

210. John Morgan, Blue Ash, Ohio, Court of Federal Claims No: 21-0217V

211. James Kelliher, Washington, District of Columbia, Court of Federal Claims No: 21-0218V

212. Florent Dechard, Washington, District of Columbia, Court of Federal Claims No: 21-0219V

213. Theresa Langerud, Washington, District of Columbia, Court of Federal Claims No: 21-0220V

214. Odette DiPietro, Washington, District of Columbia, Court of Federal Claims No: 21-0221V

215. Eileen Marrinan, Washington, District of Columbia, Court of Federal Claims No: 21-0222V

216. Ronald Culberson, Montgomery, Alabama, Court of Federal Claims No: 21-0223V

217. Samantha Sny, Davison, Michigan, Court of Federal Claims No: 21-0224V

218. Barbara Muhling, Washington, District of Columbia, Court of Federal Claims No: 21-0225V

219. Kimberly K. Vogleman, Huntington, Indiana, Court of Federal Claims No: 21-0226V

220. Carter Schoenborn, Ansonia, Connecticut, Court of Federal Claims No: 21-0227V

221. Kelly Dittoe, Washington, District of Columbia, Court of Federal Claims No: 21-0228V

222. Dawn Fehl, Boston, Massachusetts, Court of Federal Claims No: 21-0229V

223. Crystal Murray, Washington, District of Columbia, Court of Federal Claims No: 21-0230V

224. Diana Myers, Washington, District of Columbia, Court of Federal Claims No: 21-0231V

225. Benjamin Egbule, Washington, District of Columbia, Court of Federal Claims No: 21-0232V

226. Nadine Cory, Coral Springs, Florida, Court of Federal Claims No: 21-0233V

227. Brenda Nix, Washington, District of Columbia, Court of Federal Claims No: 21-0234V

228. Kayla Erosa, Washington, District of Columbia, Court of Federal Claims No: 21-0235V

229. Miriam Olinger, Washington, District of Columbia, Court of Federal Claims No: 21-0236V

230. Brita Reed, Washington, District of Columbia, Court of Federal Claims No: 21-0237V

231. Leslie G. Bromberg, Phoenix, Arizona, Court of Federal Claims No: 21-0238V

232. Caroline Faure, Washington, District of Columbia, Court of Federal Claims No: 21-0239V

233. Debra Rhoades, Richmond, Indiana, Court of Federal Claims No: 21-0240V

234. Janice Lent, Washington, District of Columbia, Court of Federal Claims No: 21-0241V

235. Katherine Frailing, Washington, District of Columbia, Court of Federal Claims No: 21-0242V

236. Kathryn Rikard, Washington, District of Columbia, Court of Federal Claims No: 21-0243V

237. Sarah Beranek, Cedar Rapids, Iowa, Court of Federal Claims No: 21-0244V

238. Ellen Fulcher, Washington, District of Columbia, Court of Federal Claims No: 21-0245V

239. Karen Lindsey, Boston, Massachusetts, Court of Federal Claims No: 21-0246V

240. Julie Russell, Washington, District of Columbia, Court of Federal Claims No: 21-0247V

241. Nathan Mostow, Fort Lee, New Jersey, Court of Federal Claims No: 21-0248V

242. Charles Gigantino, Washington, District of Columbia, Court of Federal Claims No: 21-0249V

243. Heidi Scheucher, Washington, District of Columbia, Court of Federal Claims No: 21-0250V

244. Maureen Theobald, Thousand Oaks, California, Court of Federal Claims No: 21-0251V

245. Norys Fernandez on behalf of Salvatore Fernandez, Yardley, Pennsylvania, Court of Federal Claims No: 21-0252V

246. Gretchen Guttridge, Washington, District of Columbia, Court of Federal Claims No: 21-0253V

247. Alexandra Simels, Washington, District of Columbia, Court of Federal Claims No: 21-0254V

248. Amber Hagkull, Washington, District of Columbia, Court of Federal Claims No: 21-0255V

249. Jennifer Sohmer, Charlotte, North Carolina, Court of Federal Claims No: 21-0256V

250. Harry Argeris, Tacoma, Washington, Court of Federal Claims No: 21-0257V

251. Sandra Johns, Chino Valley, Arizona, Court of Federal Claims No: 21-0258V

252. Kuldip Sohpal, Washington, District of Columbia, Court of Federal Claims No: 21-0259V

253. Thomas Harkins, Washington, District of Columbia, Court of Federal Claims No: 21-0260V

254. Helena McGaughey, McCracken, Kansas, Court of Federal Claims No: 21-0261V

255. Guadalupe Solis, Washington, District of Columbia, Court of Federal Claims No: 21-0262V

256. Meagan O'Neill, Charleston, South Carolina, Court of Federal Claims No: 21-0263V

257. Christina Terrell, Dresher, Pennsylvania, Court of Federal Claims No: 21-0264V

258. Marie Stark, South Bend, Indiana, Court of Federal Claims No: 21-0265V

259. Anthony Harrison, Washington, District of Columbia, Court of Federal Claims No: 21-0266V

260. Evelyn Valdivieso, Malvern, Pennsylvania, Court of Federal Claims No: 21-0267V

261. Scott Sterland, Washington, District of Columbia, Court of Federal Claims No: 21-0268V

262. Lisa Hazard, Washington, District of Columbia, Court of Federal Claims No: 21-0269V

263. Joanne Carol Stange, Watkinsville, Georgia, Court of Federal Claims No: 21-0270V

264. Stephanie Stites, Washington, District of Columbia, Court of Federal Claims No: 21-0271V

265. Kimberly Heesch, Washington, District of Columbia, Court of Federal Claims No: 21-0272V

266. Kiandra Stroud, Washington, District of Columbia, Court of Federal Claims No: 21-0273V

267. Barbara Marilyn John, Queens, New York, Court of Federal Claims No: 21-0274V

268. Antonio Carabillo, Dumont, New Jersey, Court of Federal Claims No: 21-0275V

269. Alexander Terry, Atlanta, Georgia, Court of Federal Claims No: 21-0276V

270. Cortez Toliver, Washington, District of Columbia, Court of Federal Claims No: 21-0277V

271. Kelly Walker, Watertown, New York, Court of Federal Claims No: 21-0278V

272. Luz Villalba, Washington, District of Columbia, Court of Federal Claims No: 21-0279V

273. Danielle Halaz, Dresher, Pennsylvania, Court of Federal Claims No: 21-0280V

274. Melissa Hoppe, Washington, District of Columbia, Court of Federal Claims No: 21-0281V

275. Christopher Webster, Washington, District of Columbia, Court of Federal Claims No: 21-0282V

276. Xin Jin, Washington, District of Columbia, Court of Federal Claims No: 21-0283V

277. Boonie Wells, Washington, District of Columbia, Court of Federal Claims No: 21-0284V

278. Roxann Wellington, Washington, District of Columbia, Court of Federal Claims No: 21-0285V

279. Eunice Kim, Washington, District of Columbia, Court of Federal Claims No: 21-0286V

280. Taylore Wilson, Washington, District of Columbia, Court of Federal Claims No: 21-0287V

281. Catherine Wroczynski, Washington, District of Columbia, Court of Federal Claims No: 21-0288V

282. Carolyn Kimmick, Washington, District of Columbia, Court of Federal Claims No: 21-0289V

283. Nathan Yost, Austin, Texas, Court of Federal Claims No: 21-0290V

284. Stephanie Zaremba, Washington, District of Columbia, Court of Federal Claims No: 21-0291V

285. Leah King, Washington, District of Columbia, Court of Federal Claims No: 21-0292V

286. Hailey Lau, Washington, District of Columbia, Court of Federal Claims No: 21-0293V

287. Ashok Mahbubani, Washington, District of Columbia, Court of Federal Claims No: 21-0294V

288. Debra McCarthy, Washington, District of Columbia, Court of Federal Claims No: 21-0295V

289. Kenade Achelus-Knox, Tallahassee, Florida, Court of Federal Claims No: 21-0296V

290. Floyd Meyer, Washington, District of Columbia, Court of Federal Claims No: 21-0297V

291. Dennis Marsh, Dublin, California, Court of Federal Claims No: 21-0298V

292. Sarah Anderson, Washington, District of Columbia, Court of Federal Claims No: 21-0299V

293. Maryam Ahmadi, Newbury Park, California, Court of Federal Claims No: 21-0300V

294. Jamie Lynn Montoya Cook, Washington, District of Columbia, Court of Federal Claims No: 21-0301V

295. Darrick Bennett, Washington, District of Columbia, Court of Federal Claims No: 21-0302V

296. Luevenia Bluefort, Washington, District of Columbia, Court of Federal Claims No: 21-0303V

297. Maurica Moore, Washington, District of Columbia, Court of Federal Claims No: 21-0304V

298. Louis Fucito, Newport Coast, California, Court of Federal Claims No: 21-0305V

299. Sherry Carroll, Washington, District of Columbia, Court of Federal Claims No: 21-0306V

300. Stephen Cote, Washington, District of Columbia, Court of Federal Claims No: 21-0307V

301. Gwyneth Rampton, Washington, District of Columbia, Court of Federal Claims No: 21-0308V

302. Sally Creedon, Cary, North Carolina, Court of Federal Claims No: 21-0309V

303. Michele D'Agostino, Washington, District of Columbia, Court of Federal Claims No: 21-0310V

304. Myra Diggs, Washington, District of Columbia, Court of Federal Claims No: 21-0311V

305. Layne du Vivier, Washington, District of Columbia, Court of Federal Claims No: 21-0312V

306. Sierra Erb, Washington, District of Columbia, Court of Federal Claims No: 21-0313V

307. Tracey Ervin-Spencer, Seattle, Washington, Court of Federal Claims No: 21-0314V

308. Julia Foster, Washington, District of Columbia, Court of Federal Claims No: 21-0315V

309. Dilean Frani, Washington, District of Columbia, Court of Federal Claims No: 21-0316V

310. Suzanne Zacharski on behalf of Diane Lemanski, Troy, Michigan, Court of Federal Claims No: 21-0317V

311. Jason Frank, Washington, District of Columbia, Court of Federal Claims No: 21-0318V

312. Amanda Gefter, Boston, Massachusetts, Court of Federal Claims No: 21-0319V

313. Sharon Wall, Williamsburg, Virginia, Court of Federal Claims No: 21-0320V

314. Larry Goff, Washington, District of Columbia, Court of Federal Claims No: 21-0321V

315. Moira Croteau, Keene, New Hampshire, Court of Federal Claims No: 21-0322V

316. Edward Bianco, Washington, District of Columbia, Court of Federal Claims No: 21-0323V

317. Celina Peterson, Seattle, Washington, Court of Federal Claims No: 21-0324V

318. Sunshine Borawski, Washington, District of Columbia, Court of Federal Claims No: 21-0325V

319. Cletus Emeziem, Washington, District of Columbia, Court of Federal Claims No: 21-0326V

320. Richard Sadler, Ottawa, Kansas, Court of Federal Claims No: 21-0327V

321. Mark Grayson, Washington, District of Columbia, Court of Federal Claims No: 21-0328V

322. Mohamed Hendawi, Washington, District of Columbia, Court of Federal Claims No: 21-0329V

323. Kelly Mabra, Boston, Massachusetts, Court of Federal Claims No: 21-0330V

324. Jana Hesker, Washington, District of Columbia, Court of Federal Claims No: 21-0331V

325. Leslie Hendricks, Boston, Massachusetts, Court of Federal Claims No: 21-0332V

326. Timothy Phipps, West Henrietta, New York, Court of Federal Claims No: 21-0333V

327. Robert Lenhart, Phoenix, Arizona, Court of Federal Claims No: 21-0334V

328. Samantha Meadows, Washington, District of Columbia, Court of Federal Claims No: 21-0335V

329. Yacoub Innabi, Phoenix, Arizona, Court of Federal Claims No: 21-0336V

330. Robert Murphy, Washington, District of Columbia, Court of Federal Claims No: 21-0337V

331. Christopher Nguyen, Washington, District of Columbia, Court of Federal Claims No: 21-0338V

332. Sarah Parolski, Washington, District of Columbia, Court of Federal Claims No: 21-0339V

333. Heidys Antigua, Bronx, New York, Court of Federal Claims No: 21-0340V

334. Donna Fagan, Dresher, Pennsylvania, Court of Federal Claims No: 21-0341V

335. Donna Pitts, Washington, District of Columbia, Court of Federal Claims No: 21-0342V

336. Michelle Overton, San Marcos, California, Court of Federal Claims No: 21-0343V

337. Jessica Ramirez, Washington, District of Columbia, Court of Federal Claims No: 21-0344V

338. Teresa Lee, Salem, Ohio, Court of Federal Claims No: 21-0345V

339. Cassandra Hamilton, Chicago, Illinois, Court of Federal Claims No: 21-0346V

340. Anita Rogers, Washington, District of Columbia, Court of Federal Claims No: 21-0347V

341. Deborah Shears, Lathrop, California, Court of Federal Claims No: 21-0348V

342. Andrea Scanlan, Manhattan, New York, Court of Federal Claims No: 21-0349V

343. Terri Samuels, Washington, District of Columbia, Court of Federal Claims No: 21-0350V

344. Brandon Pozil, Greensboro, North Carolina, Court of Federal Claims No: 21-0351V

345. Renee Bettencourt, Morgan Hill, California, Court of Federal Claims No: 21-0352V

346. Thomas Sarna, Washington, District of Columbia, Court of Federal Claims No: 21-0353V

347. Steven Scantland, Washington, District of Columbia, Court of Federal Claims No: 21-0354V

348. Stamatia Haritoudis, Beverly Hills, California, Court of Federal Claims No: 21-0355V

349. Donna Schoenberger, Washington, District of Columbia, Court of Federal Claims No: 21-0356V

350. Ann Margaret Venditti, Washington, District of Columbia, Court of Federal Claims No: 21-0357V

351. Lucio Villanueva, Washington, District of Columbia, Court of Federal Claims No: 21-0358V

352. Erik Vangsness, Dallas, Texas, Court of Federal Claims No: 21-0359V

353. Stephanie Stanton, Dallas, Texas, Court of Federal Claims No: 21-0360V

354. Timothy Wade, Washington, District of Columbia, Court of Federal Claims No: 21-0361V

355. Sharon Seales-Reid, Beverly Hills, California, Court of Federal Claims No: 21-0362V

356. Joy Bent, Richmond, Virginia, Court of Federal Claims No: 21-0363V

357. Edward Louis Ambiel, Jr., Beverly Hills, California, Court of Federal Claims No: 21-0364V

358. Grace Wang, Washington, District of Columbia, Court of Federal Claims No: 21-0365V

359. Marvin Walker, Beverly Hills, California, Court of Federal Claims No: 21-0366V

360. Robert Werbicki, Phoenix, Arizona, Court of Federal Claims No: 21-0367V

361. Thomas Welsh, Washington, District of Columbia, Court of Federal Claims No: 21-0368V

362. Brittany White, Washington, District of Columbia, Court of Federal Claims No: 21-0369V

363. Shannon Yodowitz, Washington, District of Columbia, Court of Federal Claims No: 21-0370V

364. Sophie Poore, Greer, South Carolina, Court of Federal Claims No: 21-0371V

365. Donnie Puckett, High Point, North Carolina, Court of Federal Claims No: 21-0372V

366. Kimberly Robichaux, Washington, District of Columbia, Court of Federal Claims No: 21-0373V

367. Mary Mann, Frederick, Maryland, Court of Federal Claims No: 21-0374V

368. Bonnie Graczyk, Seattle, Washington, Court of Federal Claims No: 21-0376V

369. Jason Povey, Louisville, Kentucky, Court of Federal Claims No: 21-0377V

370. Yvonne Romo, Boston, Massachusetts, Court of Federal Claims No: 21-0378V

371. Lori Carter, Richmond, Virginia, Court of Federal Claims No: 21-0379V

372. Ma Lourdes Aspeita, Philadelphia, Pennsylvania, Court of Federal Claims No: 21-0380V

373. Debrah Atkins, Philadelphia, Pennsylvania, Court of Federal Claims No: 21-0381V

374. Robin McKinnon, Richmond, Virginia, Court of Federal Claims No: 21-0382V

375. Jennifer Hudson, Washington, District of Columbia, Court of Federal Claims No: 21-0383V

376. Derek Blevins, Philadelphia, Pennsylvania, Court of Federal Claims No: 21-0385V

377. Karen Brown, Woodbridge, Illinois, Court of Federal Claims No: 21-0386V

378. Thomas Anderson, Boston, Massachusetts, Court of Federal Claims No: 21-0387V

379. Cynthia Burkhead, Philadelphia, Pennsylvania, Court of Federal Claims No: 21-0388V

380. Paula Cavalier, Philadelphia, Pennsylvania, Court of Federal Claims No: 21-0389V

381. Roger Conley, Philadelphia, Pennsylvania, Court of Federal Claims No: 21-0390V

382. Antonio Lorenzo, Washington, District of Columbia, Court of Federal Claims No: 21-0391V

383. Kelly Gibson, Dyer, Indiana, Court of Federal Claims No: 21-0392V

384. Diane Michelle, Chicago, Illinois, Court of Federal Claims No: 21-0393V

385. Evelyn Valdez, Philadelphia, Pennsylvania, Court of Federal Claims No: 21-0394V

386. Kelly Gibson, Dyer, Indiana, Court of Federal Claims No: 21-0395V

387. Will Gallaway, Philadelphia, Pennsylvania, Court of Federal Claims No: 21-0396V

388. Gloria Guerrero, Blythe, California, Court of Federal Claims No: 21-0397V

389. Donna Horn, Philadelphia, Pennsylvania, Court of Federal Claims No: 21-0398V

390. Debbie Hutchins, Los Angeles, California, Court of Federal Claims No: 21-0399V

391. Elizabeth Covey, Portage, Michigan, Court of Federal Claims No: 21-0400V

392. Avinash Idnani, Philadelphia, Pennsylvania, Court of Federal Claims No: 21-0401V

393. Felix Kersting, Philadelphia, Pennsylvania, Court of Federal Claims No: 21-0402V

394. Jean M. Nunes, Warwick, Rhode Island, Court of Federal Claims No: 21-0403V

395. Lora Loethen, Philadelphia, Pennsylvania, Court of Federal Claims No: 21-0404V

396. Joseph Mattachione, Dresher, Pennsylvania, Court of Federal Claims No: 21-0405V

397. Charles Meyers, Philadelphia, Pennsylvania, Court of Federal Claims No: 21-0406V

398. Angela Milam, Philadelphia, Pennsylvania, Court of Federal Claims No: 21-0407V

399. Charles Olson, Philadelphia, Pennsylvania, Court of Federal Claims No: 21-0408V

400. Patricia Smith, Dallas, Pennsylvania, Court of Federal Claims No: 21-0409V

401. Lovie Lucas, Dresher, Pennsylvania, Court of Federal Claims No: 21-0410V

402. Alyssa Schutte, Philadelphia, Pennsylvania, Court of Federal Claims No: 21-0411V

403. Cecil Sharpe, Philadelphia, Pennsylvania, Court of Federal Claims No: 21-0412V

404. William Squicciarino, Palm Coast, Florida, Court of Federal Claims No: 21-0413V

405. Alexis Teague, Philadelphia, Pennsylvania, Court of Federal Claims No: 21-0414V

406. Christina Tibbs, Philadelphia, Pennsylvania, Court of Federal Claims No: 21-0415V

407. Peter Louvaris, Dresher, Pennsylvania, Court of Federal Claims No: 21-0416V

408. Peter Gabriel, Dresher, Pennsylvania, Court of Federal Claims No: 21-0417V

409. Valerian Kostka, Dresher, Pennsylvania, Court of Federal Claims No: 21-0418V

410. Terry M. Wise, Concord, North Carolina, Court of Federal Claims No: 21-0419V

411. Sheryl Nussbaum, Dresher, Pennsylvania, Court of Federal Claims No: 21-0420V

412. Helen Clark, Dresher, Pennsylvania, Court of Federal Claims No: 21-0421V

413. Heidi Langman, Dresher, Pennsylvania, Court of Federal Claims No: 21-0422V

414. Elizabeth Krumsiek, Ellington, Connecticut, Court of Federal Claims No: 21-0423V

415. Shaunna Gunderson, White Plains, New York, Court of Federal Claims No: 21-0424V

416. Sara McCarthy, Chicago, Illinois, Court of Federal Claims No: 21-0425V

417. Richard Lamport, Longboat Key, Florida, Court of Federal Claims No: 21-0426V

418. Doni Corcoran, Beverly Hills, California, Court of Federal Claims No: 21-0427V

419. Rachel Barthomaly, Beverly Hills, California, Court of Federal Claims No: 21-0428V

420. Betty Luker, Beverly Hills, California, Court of Federal Claims No: 21-0429V

421. Janet Lee Thomson, Beverly Hills, California, Court of Federal Claims No: 21-0430V

422. Hope Gottbeheat, Beverly Hills, California, Court of Federal Claims No: 21-0431V

423. Robert Wimmer, Beverly Hills, California, Court of Federal Claims No: 21-0432V

424. Meghan Elisabeth Moreno, Beverly Hills, California, Court of Federal Claims No: 21-0433V

425. Sonja Myers, Beverly Hills, California, Court of Federal Claims No: 21-0434V

426. Laura Law, Los Angeles, California, Court of Federal Claims No: 21-0435V

427. Paula Renea Peterson-Michael, Elk River, Minnesota, Court of Federal Claims No: 21-0436V

428. Lakara Arnold, Beverly Hills, California, Court of Federal Claims No: 21-0437V

429. Joelle Held, New York, New York, Court of Federal Claims No: 21-0438V

430. Dana J. Lenkowsky, New York, New York, Court of Federal Claims No: 21-0439V

431. Lara Nadel, New York, New York, Court of Federal Claims No: 21-0440V

432. Tehseen Sarwar, Chicago, Illinois, Court of Federal Claims No: 21-0441V

433. Lisa Morris, Dallas, Texas, Court of Federal Claims No: 21-0442V

434. Meagan Powers, Dallas, Texas, Court of Federal Claims No: 21-0443V

435. Daniel Hickey, San Antonio, Texas, Court of Federal Claims No: 21-0444V

436. James E. Alcorn, Washington, District of Columbia, Court of Federal Claims No: 21-0445V

437. Elisabeth Fuhs, Washington, District of Columbia, Court of Federal Claims No: 21-0446V

438. Lisa Gyde, Washington, District of Columbia, Court of Federal Claims No: 21-0447V

439. Shelleen Salazar-Figueroa, White Plains, New York, Court of Federal Claims No: 21-0448V

440. Laura Jeanette Kempel, Washington, District of Columbia, Court of Federal Claims No: 21-0449V

441. Robert Dickerson, Washington, District of Columbia, Court of Federal Claims No: 21-0450V

442. Oliver Mains, Washington, District of Columbia, Court of Federal Claims No: 21-0451V

443. Yvonne Meyer, Washington, District of Columbia, Court of Federal Claims No: 21-0452V

444. Ann Scarantino, Washington, District of Columbia, Court of Federal Claims No: 21-0453V

445. Lorraine Suba, Washington, District of Columbia, Court of Federal Claims No: 21-0454V

446. Anthony Tegge, Washington, District of Columbia, Court of Federal Claims No: 21-0455V

447. Cathleen Washington, Washington, District of Columbia, Court of Federal Claims No: 21-0456V

448. Kelsey Acker, Washington, District of Columbia, Court of Federal Claims No: 21-0457V

449. Annette Horner, Washington, District of Columbia, Court of Federal Claims No: 21-0458V

450. Jessica Reisner, Washington, District of Columbia, Court of Federal Claims No: 21-0459V

451. Anastacia Wood, Washington, District of Columbia, Court of Federal Claims No: 21-0460V

452. Millie Chung, Boston, Massachusetts, Court of Federal Claims No: 21-0461V

453. Deann Baber, Woodbridge, Illinois, Court of Federal Claims No: 21-0462V

454. Nicolas Stabler, Philadelphia, Pennsylvania, Court of Federal Claims No: 21-0463V

455. Thomas L. Alley, Woodbridge, Illinois, Court of Federal Claims No: 21-0464V

456. Petra Blankenship, Villa Rica, Georgia, Court of Federal Claims No: 21-0465V

457. Veronica Wilmouth, Richmond, Virginia, Court of Federal Claims No: 21-0466V

458. Meghan Dooling, Dresher, Pennsylvania, Court of Federal Claims No: 21-0467V

459. Michelle Franceschi, Phoenix, Arizona, Court of Federal Claims No: 21-0468V

460. Danilo Ferrer, Woodbridge, Illinois, Court of Federal Claims No: 21-0469V

461. Roosevelt Poore, Richmond, Virginia, Court of Federal Claims No: 21-0470V

462. Tarsha White, Washington, District of Columbia, Court of Federal Claims No: 21-0471V

463. Bailie Hillman, Boston, Massachusetts, Court of Federal Claims No: 21-0472V

464. Regina McGillivray, Boston, Massachusetts, Court of Federal Claims No: 21-0473V

465. Carla Hargrave, Richmond, Virginia, Court of Federal Claims No: 21-0474V

466. Rebecca Alexy, Dresher, Pennsylvania, Court of Federal Claims No: 21-0475V

467. Tammy Barton, Dresher, Pennsylvania, Court of Federal Claims No: 21-0476V

468. Brooke Langford, Dresher, Pennsylvania, Court of Federal Claims No: 21-0477V

469. Meredith Potts, Dresher, Pennsylvania, Court of Federal Claims No: 21-0478V

470. Helen Osgood, Dresher, Pennsylvania, Court of Federal Claims No: 21-0479V

471. Stephanie Marshburn, Greensboro, North Carolina, Court of Federal Claims No: 21-0480V

472. Marijo Washburn, Dresher, Pennsylvania, Court of Federal Claims No: 21-0481V

473. Tony Lee Vernon, Greensboro, North Carolina, Court of Federal Claims No: 21-0482V

474. Bernessia Odom, Birmingham, Alabama, Court of Federal Claims No: 21-0483V

475. Jerrod Krebs, Dresher, Pennsylvania, Court of Federal Claims No: 21-0484V

476. Jill Veltri, Melbourne, Florida, Court of Federal Claims No: 21-0485V

477. Catherine Campbell Tingley, Norwalk, Connecticut, Court of Federal Claims No: 21-0486V

478. Brenda Robinson, Dresher, Pennsylvania, Court of Federal Claims No: 21-0487V

479. Arlene O'Connell, Boston, Massachusetts, Court of Federal Claims No: 21-0488V

480. Caroline Allen, Dresher, Pennsylvania, Court of Federal Claims No: 21-0489V

481. Tyhiem Cannon, Washington, District of Columbia, Court of Federal Claims No: 21-0490V

482. Tonya Coss, Boston, Massachusetts, Court of Federal Claims No: 21-0491V

483. Sydney Griggs, Boston, Massachusetts, Court of Federal Claims No: 21-0492V

484. Louis Brandt, Seattle, Washington, Court of Federal Claims No: 21-0494V

485. Rebecca Vandyke, Woodbridge, Illinois, Court of Federal Claims No: 21-0495V

486. Ashley Beall, Woodbridge, Illinois, Court of Federal Claims No: 21-0496V

487. Karina Beckham, Woodbridge, Illinois, Court of Federal Claims No: 21-0497V

488. Olivia Honn, New Orleans, Louisiana, Court of Federal Claims No: 21-0498V

489. Robert O'Connell, Boston, Massachusetts, Court of Federal Claims No: 21-0499V

490. Cody Greener, Richmond, Virginia, Court of Federal Claims No: 21-0500V

491. Karen Baird, Dresher, Pennsylvania, Court of Federal Claims No: 21-0501V

492. Martha Delgado, Woodbridge, Illinois, Court of Federal Claims No: 21-0502V

493. Armandina Guerra, Dresher, Pennsylvania, Court of Federal Claims No: 21-0503V

494. Haley Elise Watkins, Greensboro, North Carolina, Court of Federal Claims No: 21-0504V

495. Jenna Wagner, Woodbridge, Illinois, Court of Federal Claims No: 21-0505V

496. Mikka Painter, Boston, Massachusetts, Court of Federal Claims No: 21-0506V

497. Richard Robinson, Woodbridge, Illinois, Court of Federal Claims No: 21-0507V

498. Amanda Eden, Woodbridge, Illinois, Court of Federal Claims No: 21-0508V

499. Alicia Goodnight, Boston, Massachusetts, Court of Federal Claims No: 21-0509V

500. Pyul Horbel, Dresher, Pennsylvania, Court of Federal Claims No: 21-0510V

501. Kelsey Gates, Dresher, Pennsylvania, Court of Federal Claims No: 21-0511V

502. Brooke Elliott, Seattle, Washington, Court of Federal Claims No: 21-0512V

503. Nurten Karasen, Boston, Massachusetts, Court of Federal Claims No: 21-0513V

504. Lionel Cartwright, Richmond, Virginia, Court of Federal Claims No: 21-0514V

505. Stephanie Wanner, Washington, District of Columbia, Court of Federal Claims No: 21-0515V

506. Catherine Kane, Sarasota, Florida, Court of Federal Claims No: 21-0516V

507. Adam Scheonfeld, Dresher, Pennsylvania, Court of Federal Claims No: 21-0517V

508. Angela Wessinger, Greensboro, North Carolina, Court of Federal Claims No: 21-0518V

509. Kathy Bell, Richmond, Virginia, Court of Federal Claims No: 21-0519V

510. Juan Ortiz, Dresher, Pennsylvania, Court of Federal Claims No: 21-0520V

511. Alison Mora, Philadelphia, Pennsylvania, Court of Federal Claims No: 21-0521V

512. Cynthia Keith, Dresher, Pennsylvania, Court of Federal Claims No: 21-0522V

513. Tamela Sprigg, Williamsville, New York, Court of Federal Claims No: 21-0523V

514. Daphne McCann, Dresher, Pennsylvania, Court of Federal Claims No: 21-0524V

515. Michelle Pickett, Dresher, Pennsylvania, Court of Federal Claims No: 21-0525V

516. Kristin Young, Boston, Massachusetts, Court of Federal Claims No: 21-0526V

517. Vicki Schroeder, Boston, Massachusetts, Court of Federal Claims No: 21-0527V

518. Karen Chadduck, Richmond, Virginia, Court of Federal Claims No: 21-0528V

519. Kathleen Cromwell, Dresher, Pennsylvania, Court of Federal Claims No: 21-0529V

520. Vivien Cord, Dresher, Pennsylvania, Court of Federal Claims No: 21-0530V

521. Myra B. Crowder, Greensboro, North Carolina, Court of Federal Claims No: 21-0531V

522. Candy L. Chapman, Indianapolis, Indiana, Court of Federal Claims No: 21-0532V

523. Patricia Bulluck, Greensboro, North Carolina, Court of Federal Claims No: 21-0533V

524. Brenda Ainesworth, Dresher, Pennsylvania, Court of Federal Claims No: 21-0534V

525. Freddie Roland, Dresher, Pennsylvania, Court of Federal Claims No: 21-0535V

526. Elias Yacob, Dresher, Pennsylvania, Court of Federal Claims No: 21-0536V

527. Robert Raymond, Boston, Massachusetts, Court of Federal Claims No: 21-0537V

528. G. Matthew Kosma, Greensboro, North Carolina, Court of Federal Claims No: 21-0538V

529. Michael Mattioni, Dresher, Pennsylvania, Court of Federal Claims No: 21-0539V

530. Genene Terefe, Dresher, Pennsylvania, Court of Federal Claims No: 21-0540V

531. Amy Emilita, Dresher, Pennsylvania, Court of Federal Claims No: 21-0541V

532. Anthony Giancaterino, SR, Dresher, Pennsylvania, Court of Federal Claims No: 21-0542V

533. Frederick Singer, Dresher, Pennsylvania, Court of Federal Claims No: 21-0543V

534. Elaine Labor, Dresher, Pennsylvania, Court of Federal Claims No: 21-0544V

535. Cynthia G. Dasilva, Greensboro, North Carolina, Court of Federal Claims No: 21-0545V

536. Anna Davis, Dresher, Pennsylvania, Court of Federal Claims No: 21-0547V

537. Rahman Vace, Washington, District of Columbia, Court of Federal Claims No: 21-0548V

538. Jared Trinnaman, Dresher, Pennsylvania, Court of Federal Claims No: 21-0549V

539. Cathy Sun, Dresher, Pennsylvania, Court of Federal Claims No: 21-0550V

540. Robert Raymond, Boston, Massachusetts, Court of Federal Claims No: 21-0551V

541. Steven Gilbert, Dresher, Pennsylvania, Court of Federal Claims No: 21-0552V

542. Teela Buscarini Wyman, Washington, District of Columbia, Court of Federal Claims No: 21-0553V

543. Laura Bianco, Boston, Massachusetts, Court of Federal Claims No: 21-0554V

544. Claudia Langmaid Dresher, Pennsylvania, Court of Federal Claims No: 21-0555V

545. Marie Reyes, Boston, Massachusetts, Court of Federal Claims No: 21-0556V

546. Kimberly Evans, Boston, Massachusetts, Court of Federal Claims No: 21-0557V

547. Merle Rodgers, Woodbridge, Illinois, Court of Federal Claims No: 21-0558V

548. Maureen Epping, Boston, Massachusetts, Court of Federal Claims No: 21-0559V

549. Roxanne Rae Burkhardt, Woodbridge, Illinois, Court of Federal Claims No: 21-0560V

550. Camilla Butler, Boston, Massachusetts, Court of Federal Claims No: 21-0561V

551. Cynthia D. Bruno Sioux City, Iowa, Court of Federal Claims No: 21-0562V

552. Kelly Hilley, Dresher, Pennsylvania, Court of Federal Claims No: 21-0563V

553. Raul Diaz, Boston, Massachusetts, Court of Federal Claims No: 21-0564V

554. D. Douglas Rice, Waterloo, Iowa, Court of Federal Claims No: 21-0565V

555. Jean Fitzsimons, New York, New York, Court of Federal Claims No: 21-0566V

556. Julie Cavanaugh, Des Moines, Iowa, Court of Federal Claims No: 21-0567V

557. Michael Durbin, Woodbridge, Illinois, Court of Federal Claims No: 21-0569V

558. Hailey Miller, Woodbridge, Illinois, Court of Federal Claims No: 21-0570V

559. Leighann Revel, Seattle, Washington, Court of Federal Claims No: 21-0571V

560. Haley C. Cardwell, Alexandria, Virginia, Court of Federal Claims No: 21-0572V

561. Naomi Mimnaugh, Wellesley Hills, Hawaii, Court of Federal Claims No: 21-0573V

562. Debora Boice, Wellesley Hills, Massachusetts, Court of Federal Claims No: 21-0574V

563. Kathleen Boland, Wellesley Hills, Massachusetts, Court of Federal Claims No: 21-0575V

564. Patricia Corbosiero, Wellesley Hills, Massachusetts, Court of Federal Claims No: 21-0576V

565. Drita Beqiri, Woodbridge, Illinois, Court of Federal Claims No: 21-0577V

566. Tawana Reyes, Woodbridge, Illinois, Court of Federal Claims No: 21-0578V

567. Tiffany McKnight, Woodbridge, Illinois, Court of Federal Claims No: 21-0579V

568. Vanessa Gonzales, Woodbridge, Illinois, Court of Federal Claims No: 21-0580V

569. Jack Momchilovich, Woodbridge, Illinois, Court of Federal Claims No: 21-0581V

570. Lea Goff Johnson, Dresher, Pennsylvania, Court of Federal Claims No: 21-0582V

571. Holly Havis, Richmond, Virginia, Court of Federal Claims No: 21-0583V

572. Rahman Vace, Washington, District of Columbia, Court of Federal Claims No: 21-0584V

573. Kathleen Ceccarelli, Dresher, Pennsylvania, Court of Federal Claims No: 21-0585V

574. Jerry Lucks, Dresher, Pennsylvania, Court of Federal Claims No: 21-0586V

575. Patricia Kennedy, Washington, District of Columbia, Court of Federal Claims No: 21-0587V

576. Michael Pearl, Dresher, Pennsylvania, Court of Federal Claims No: 21-0588V

577. Firas Ido, Boston, Massachusetts, Court of Federal Claims No: 21-0589V

578. Ciara Nielsen, Dresher, Pennsylvania, Court of Federal Claims No: 21-0590V

579. Douglas S. Yaw, Rochester, New York, Court of Federal Claims No: 21-0591V

580. Danette Sanetra, Dresher, Pennsylvania, Court of Federal Claims No: 21-0592V

581. Nicole Egbert, Dresher, Pennsylvania, Court of Federal Claims No: 21-0593V

582. Rosanna Camire, Boston, Massachusetts, Court of Federal Claims No: 21-0594V

583. Eric Ahlstrom, Woodbridge, Illinois, Court of Federal Claims No: 21-0596V

584. Cynthia Crider, White Plains, New York, Court of Federal Claims No: 21-0597V

585. Joseph McDaniel, Dresher, Pennsylvania, Court of Federal Claims No: 21-0598V

586. Terry Ann Davies, Dresher, Pennsylvania, Court of Federal Claims No: 21-0599V

587. Rosemarie Teppert, Woodbridge, Illinois, Court of Federal Claims No: 21-0600V

588. Jacalyn Kay Whitham, Phoenix, Arizona, Court of Federal Claims No: 21-0601V

589. Gada Sweis, Dresher, Pennsylvania, Court of Federal Claims No: 21-0602V

590. Janelle Simpson, Dresher, Pennsylvania, Court of Federal Claims No: 21-0603V

591. Emily Scott, Dresher, Pennsylvania, Court of Federal Claims No: 21-0604V

592. Keith Rogers, Dresher, Pennsylvania, Court of Federal Claims No: 21-0605V

593. Geraldine L. Riser, Sioux City, Iowa, Court of Federal Claims No: 21-0606V

594. Amanda Morrison, Washington, District of Columbia Court of Federal Claims No: 21-0607V

595. Douglas Rouse, Washington, District of Columbia, Court of Federal Claims No: 21-0608V

596. Gary Blackmon, Dresher, Pennsylvania, Court of Federal Claims No: 21-0609V

597. Salvadore Foti, Dresher, Pennsylvania, Court of Federal Claims No: 21-0611V

598. Charles Baine, Dresher, Pennsylvania, Court of Federal Claims No: 21-0612V

599. Paul Mason, Boston, Massachusetts, Court of Federal Claims No: 21-0613V

600. Thomas Hashem, Dresher, Pennsylvania, Court of Federal Claims No: 21-0614V

601. Marlene Sutliff, Rochester, New York, Court of Federal Claims No: 21-0615V

602. Melinda Mae Robinson Dresher, Pennsylvania, Court of Federal Claims No: 21-0616V

603. Thomas Meirose, Dresher, Pennsylvania, Court of Federal Claims No: 21-0617V

604. Marsha White, Woodbridge, Illinois, Court of Federal Claims No: 21-0618V

605. Delma H. Armenta, Sioux City, Iowa, Court of Federal Claims No: 21-0619V

606. Ashleigh Ellis, Woodbridge, Illinois, Court of Federal Claims No: 21-0620V

607. Traci F. Cremeans, Sioux City, Iowa, Court of Federal Claims No: 21-0621V

608. Doriem Harvey, Dresher, Pennsylvania, Court of Federal Claims No: 21-0622V

609. Marcie Bennett, Dresher, Pennsylvania, Court of Federal Claims No: 21-0623V

610. Laquera Barnett, Dresher, Pennsylvania, Court of Federal Claims No: 21-0624V

611. Deidre Bratton, Woodbridge, Illinois, Court of Federal Claims No: 21-0625V

612. Heather Hogan, Dresher, Pennsylvania, Court of Federal Claims No: 21-0626V

613. Patricia Stoddard, Boston, Massachusetts, Court of Federal Claims No: 21-0627V

614. Jill McAndrew, Rochester, New York, Court of Federal Claims No: 21-0628V

615. Karen Turbe, Dresher, Pennsylvania, Court of Federal Claims No: 21-0629V

616. Carmen Kienow, Sarasota, Florida, Court of Federal Claims No: 21-0630V

617. Marcea Jones, Dresher, Pennsylvania, Court of Federal Claims No: 21-0631V

618. Bobbi Moon, Dresher, Pennsylvania, Court of Federal Claims No: 21-0632V

619. Elizabeth Wiggins, Dresher, Pennsylvania, Court of Federal Claims No: 21-0633V

620. Dolores Fernandes, Sarasota, Florida, Court of Federal Claims No: 21-0634V

621. Ronald Johnk, Dresher, Pennsylvania, Court of Federal Claims No: 21-0635V

622. Jamie Vaughan, Dresher, Pennsylvania, Court of Federal Claims No: 21-0636V

623. Elizabeth Mackenzie, Seattle, Washington, Court of Federal Claims No: 21-0637V

624. Tasha Allen, Dresher, Pennsylvania, Court of Federal Claims No: 21-0638V

625. Charlotte Klenke, Birmingham, Alabama, Court of Federal Claims No: 21-0639V

626. Linda Pressey, Dresher, Pennsylvania, Court of Federal Claims No: 21-0640V

627. Teresa Stine, Williamsville, New York, Court of Federal Claims No: 21-0641V

628. Jeannine Sumner, Dresher, Pennsylvania, Court of Federal Claims No: 21-0642V

629. Mitchell Singerman, Dresher, Pennsylvania, Court of Federal Claims No: 21-0643V

630. Timothy Moore, Dresher, Pennsylvania, Court of Federal Claims No: 21-0644V

631. Marie Belanger, Boston, Massachusetts, Court of Federal Claims No: 21-0645V

632. Roxanne Black Stritt, Dresher, Pennsylvania, Court of Federal Claims No: 21-0646V

633. Marie Foster, Dresher, Pennsylvania, Court of Federal Claims No: 21-0647V

634. Mandi Dancer, Dresher, Pennsylvania, Court of Federal Claims No: 21-0648V

635. Mary Grace Ferreira, Woodbridge, Illinois, Court of Federal Claims No: 21-0649V

636. Michael Sweeney, Woodbridge, Illinois, Court of Federal Claims No: 21-0650V

637. Sarah Haugh, Washington, District of Columbia, Court of Federal Claims No: 21-0651V

638. Patricia Gould, Dresher, Pennsylvania, Court of Federal Claims No: 21-0652V

639. Sean M. Sullivan, Richmond, Virginia, Court of Federal Claims No: 21-0653V

640. Kerri Peterson, Dresher, Pennsylvania, Court of Federal Claims No: 21-0654V

641. Lynn Oxenberg, Dresher, Pennsylvania, Court of Federal Claims No: 21-0655V

642. Ruth Hill, Woodbridge, Illinois, Court of Federal Claims No: 21-0656V

643. John Russell Foster, Dresher, Pennsylvania, Court of Federal Claims No: 21-0657V

644. Dayna Higgins, Wellesley Hills, Massachusetts, Court of Federal Claims No: 21-0658V

645. Michelle Tronolone, Dresher, Pennsylvania, Court of Federal Claims No: 21-0659V

646. Kim Newdall, Dresher, Pennsylvania, Court of Federal Claims No: 21-0660V

647. Susan Fenar, Dresher, Pennsylvania, Court of Federal Claims No: 21-0661V

648. Jean Soderstrom, Rochester, New York, Court of Federal Claims No: 21-0662V

649. Mary Alsup, Dresher, Pennsylvania, Court of Federal Claims No: 21-0663V

650. Lisa Brewer, Phoenix, Arizona, Court of Federal Claims No: 21-0664V

651. Marie Tyler, Sarasota, Florida, Court of Federal Claims No: 21-0665V

652. Anita Kliebert, Richmond, Virginia, Court of Federal Claims No: 21-0666V

653. Erin Elliott, Seattle, Washington, Court of Federal Claims No: 21-0667V

654. Kathleen Keleher, Seattle, Washington, Court of Federal Claims No: 21-0668V

655. Ivonne Lutes, Dresher, Pennsylvania, Court of Federal Claims No: 21-0669V

656. Sharon Laulicht, Woodbridge, Illinois, Court of Federal Claims No: 21-0670V

657. Maria Herrero Gonzalez, Seattle, Washington, Court of Federal Claims No: 21-0671V

658. Sharon Labor, Phoenix, Arizona, Court of Federal Claims No: 21-0672V

659. Kala Mangal, Woodbridge, Illinois, Court of Federal Claims No: 21-0673V

660. Carol Eaton, Woodbridge, Illinois, Court of Federal Claims No: 21-0675V

661. Tracy Jefferies, Seattle, Washington, Court of Federal Claims No: 21-0676V

662. Sandy Jubran, Houston, Texas, Court of Federal Claims No: 21-0677V

663. Jon Morris, Woodbridge, Illinois, Court of Federal Claims No: 21-0678V

664. Alexis Wnuk, Washington, District of Columbia, Court of Federal Claims No: 21-0679V

665. Isabel Del Vecchio, Washington, District of Columbia, Court of Federal Claims No: 21-0680V

666. Carin Dickmeyer, Washington, District of Columbia, Court of Federal Claims No: 21-0681V

667. Brandy Double, Washington, District of Columbia, Court of Federal Claims No: 21-0682V

668. Dorothy Harper, Washington, District of Columbia, Court of Federal Claims No: 21-0683V

669. Nathan Mathews, Sarasota, Florida, Court of Federal Claims No: 21-0684V

670. Sonja Jackman, Boston, Massachusetts, Court of Federal Claims No: 21-0685V

671. Ralph Blaine, Dresher, Pennsylvania, Court of Federal Claims No: 21-0686V

672. Anna Marie Loretan, Washington, District of Columbia, Court of Federal Claims No: 21-0687V

673. Nancie Stevens, Dresher, Pennsylvania, Court of Federal Claims No: 21-0688V

674. Patricia Pearce, Seattle, Washington, Court of Federal Claims No: 21-0689V

675. Base-Marthe Clairmy, Dresher, Pennsylvania, Court of Federal Claims No: 21-0690V

676. Darrick Northington, Woodbridge, Illinois, Court of Federal Claims No: 21-0691V

677. Linda Lykins, Washington, District of Columbia, Court of Federal Claims No: 21-0692V

678. Amanda Prieur, Boston, Massachusetts, Court of Federal Claims No: 21-0693V

679. Parth Parikh, Dresher, Pennsylvania, Court of Federal Claims No: 21-0694V

680. Ruby Siddle, Boston, Massachusetts, Court of Federal Claims No: 21-0695V

681. Gina Singh, Dresher, Pennsylvania, Court of Federal Claims No: 21-0696V

682. Erin Briggs, Jackson, Mississippi, Court of Federal Claims No: 21-0697V

683. Jasmine Bean, Boston, Massachusetts, Court of Federal Claims No: 21-0698V

684. Kristine Law, Dresher, Pennsylvania, Court of Federal Claims No: 21-0699V

685. Michael Hanson, Dresher, Pennsylvania, Court of Federal Claims No: 21-0700V

686. Connie Moser, Dresher, Pennsylvania, Court of Federal Claims No: 21-0701V

687. Sharon Williams, Dresher, Pennsylvania, Court of Federal Claims No: 21-0702V

688. Amy Miller, Dresher, Pennsylvania, Court of Federal Claims No: 21-0703V

689. Antoinette Porter, Dresher, Pennsylvania, Court of Federal Claims No: 21-0704V

690. Wanda Snoody, Woodbridge, Illinois, Court of Federal Claims No: 21-0705V

691. Virginia Crimmings, Dresher, Pennsylvania, Court of Federal Claims No: 21-0706V

692. Maryann Seguritan, Dresher, Pennsylvania, Court of Federal Claims No: 21-0707V

693. Mark West, Woodbridge, Illinois, Court of Federal Claims No: 21-0708V

694. Natalie Iovino-Shoenfeld, Dresher, Pennsylvania, Court of Federal Claims No: 21-0709V

695. Joice Gooden, Woodbridge, Illinois, Court of Federal Claims No: 21-0710V

696. Kathleen Rice, Sarasota, Florida, Court of Federal Claims No: 21-0711V

697. Alane Babington, Wellesley Hills, Massachusetts, Court of Federal Claims No: 21-0712V

698. Mary Ann Nguyen, Houston, Texas Court of Federal Claims No: 21-0713V

699. Michelle Pardo, Woodbridge, Illinois, Court of Federal Claims No: 21-0714V

700. Malinda Powell, Woodbridge, Illinois, Court of Federal Claims No: 21-0715V

701. Michelle Guyette, Woodbridge, Illinois, Court of Federal Claims No: 21-0716V

702. Cynthia Crider, White Plains, New York, Court of Federal Claims No: 21-0717V

703. Edna Beebe, Woodbridge, Illinois, Court of Federal Claims No: 21-0718V

704. Nobuntu Moyo, Woodbridge, Illinois, Court of Federal Claims No: 21-0719V

705. Laura Lunsford, Houston, Texas, Court of Federal Claims No: 21-0720V

706. Robert J. Owens, SR, Wellesley Hills, Massachusetts, Court of Federal Claims No: 21-0721V

707. Brad Pappalardo, Woodbridge, Illinois, Court of Federal Claims No: 21-0722V

708. Heather Silverman, Woodbridge, Illinois, Court of Federal Claims No: 21-0723V

709. Janice Jablonowski, Woodbridge, Illinois, Court of Federal Claims No: 21-0724V

710. Robert Chiago, Phoenix, Arizona, Court of Federal Claims No: 21-0727V

711. Susan Jenkins, Boston, Massachusetts, Court of Federal Claims No: 21-0729V

712. Mark Woodward, Sacramento, California, Court of Federal Claims No: 21-0730V

713. Benjamin Kane, Amesbury, Massachusetts, Court of Federal Claims No: 21-0731V

714. Glenn F. Wollinger, Sandown, New Hampshire, Court of Federal Claims No: 21-0733V

715. Hannah Clark, Batavia, Ohio, Court of Federal Claims No: 21-0734V

716. Elizabeth Moscone, Wakefield, Massachusetts, Court of Federal Claims No: 21-0735V

717. Katherine Varde, Houston, Texas, Court of Federal Claims No: 21-0741V

718. Destiny Blanke, White Plains, New York, Court of Federal Claims No: 21-0742V

719. Crystle Perez, Boston, Massachusetts, Court of Federal Claims No: 21-0746V

720. Patricia Hurta, Woodbridge, Illinois, Court of Federal Claims No: 21-0747V

721. Lydia Bitcover, Lawrenceville, New Jersey, Court of Federal Claims No: 21-0748V

722. Harold Anderson, Washington, District of Columbia, Court of Federal Claims No: 21-0749V

723. Gary Casterline, Jr., Washington, District of Columbia, Court of Federal Claims No: 21-0750V

724. Brandon Farris, Washington, District of Columbia, Court of Federal Claims No: 21-0751V

725. Nicholas Gillon, Washington, District of Columbia, Court of Federal Claims No: 21-0752V

726. Mary Holden, White Plains, New York, Court of Federal Claims No: 21-0754V

727. John Pryor, Houston, Texas, Court of Federal Claims No: 21-0755V

728. Steven Lapidus, M.D., White Plains, New York, Court of Federal Claims No: 21-0756V

729. Toby Huitt, White Plains, New York, Court of Federal Claims No: 21-0757V

730. Kelley Kaczerowski, Washington, District of Columbia, Court of Federal Claims No: 21-0758V

731. Michael Dinardo and Connie Dinardo on behalf of G.D., Phoenix, Arizona, Court of Federal Claims No: 21-0760V

732. Dillan Conrad, Dallas, Texas, Court of Federal Claims No: 21-0761V

733. Marcos A. Barreto Bosquez, San Juan, Puerto Rico, Court of Federal Claims No: 21-0762V

734. Darla Vanschuyver, White Plains, New York, Court of Federal Claims No: 21-0763V

735. Mario Garcia, Washington, District of Columbia, Court of Federal Claims No: 21-0764V

736. Francis Traietta, Port Jefferson, New York, Court of Federal Claims No: 21-0765V

737. Caroline Cantera, Phoenix, Arizona, Court of Federal Claims No: 21-0766V

738. Robin Siemiatkoski, White Plains, New York, Court of Federal Claims No: 21-0767V

739. Celina Ramirez, White Plains, New York, Court of Federal Claims No: 21-0768V

740. Lillian Teague, Williamsville, New York, Court of Federal Claims No: 21-0769V

741. Inah Choe, Dresher, Pennsylvania, Court of Federal Claims No: 21-0770V

742. Brandie Woodward, White Plains, New York, Court of Federal Claims No: 21-0771V

743. Kirstin Anne Smith, Salt Lake City, Utah, Court of Federal Claims No: 21-0772V

744. Sharon Tsengoles, White Plains, New York, Court of Federal Claims No: 21-0774V

745. Shafiq Imani, Milwaukee, Wisconsin, Court of Federal Claims No: 21-0777V

746. Lauren Elwell, Gainesville, Florida, Court of Federal Claims No: 21-0779V

747. Catherine Dicus, Tulsa, Oklahoma, Court of Federal Claims No: 21-0780V

748. Sara MacPhee, Washington, District of Columbia, Court of Federal Claims No: 21-0781V

749. Lynn Duclos, Washington, District of Columbia, Court of Federal Claims No: 21-0782V

750. Sean Jiggins, Washington, District of Columbia, Court of Federal Claims No: 21-0783V

751. Sarah Holbrook-Lipscomb on behalf of M.L., Phoenix, Arizona, Court of Federal Claims No: 21-0784V

752. Lebrian Spaugh, Washington, District of Columbia, Court of Federal Claims No: 21-0785V

753. Kathryn Alexander, Englewood, New Jersey, Court of Federal Claims No: 21-0786V

754. Alane Babington, Wellesley Hills, Massachusetts, Court of Federal Claims No: 21-0789V

755. Naomi Mimnaugh, Wellesley Hills, Massachusetts, Court of Federal Claims No: 21-0790V

756. Robert J. Owens, Sr., Wellesley Hills, California, Court of Federal Claims No: 21-0791V

757. Dayna Higgins, Wellesley Hills, Massachusetts, Court of Federal Claims No: 21-0792V

758. Mary Saville, Washington, District of Columbia, Court of Federal Claims No: 21-0794V

759. Wanda Lange, Houston, Texas, Court of Federal Claims No: 21-0797V

760. Rocelyn Nepomuceno, Boston, Massachusetts, Court of Federal Claims No: 21-0798V

761. Hanna Ozarski, New York, New York, Court of Federal Claims No: 21-0800V

762. Corrine O'Sullivan-Bradley, Rochester, New York, Court of Federal Claims No: 21-0802V

763. Vincent R. Bedogne, Farmington Hills, Michigan, Court of Federal Claims No: 21-0803V

764. Haley Faro, Rochester, New York, Court of Federal Claims No: 21-0805V

765. James Malkin, Boston, Massachusetts, Court of Federal Claims No: 21-0806V

766. Malikia Craddle, Washington, District of Columbia, Court of Federal Claims No: 21-0808V

767. Martha T. Cunningham, Tucson, Arizona, Court of Federal Claims No: 21-0809V

768. Nabila Gebran, White Plains, New York, Court of Federal Claims No: 21-0810V

769. Bryce Maddox, Englewood, New Jersey, Court of Federal Claims No: 21-0811V

770. Edna Groen, Covington, Kentucky, Court of Federal Claims No: 21-0812V

771. Jeanine John, Seattle, Washington, Court of Federal Claims No: 21-0813V

772. Pete Heffron, Solana Beach, California, Court of Federal Claims No: 21-0814V

773. Fatima Collins, Fort Worth, Texas, Court of Federal Claims No: 21-0815V

774. Linda Garcia, San Antonio, Texas, Court of Federal Claims No: 21-0816V

775. Holly Jenkins, Washington, District of Columbia, Court of Federal Claims No: 21-0819V

776. Danielle Awe, Boston, Massachusetts, Court of Federal Claims No: 21-0821V

777. Marlene Koenig-Wiltse, Washington, District of Columbia, Court of Federal Claims No: 21-0822V

778. Edward Tyson, Washington, District of Columbia, Court of Federal Claims No: 21-0823V

779. Marie Galeno, Dresher, Pennsylvania, Court of Federal Claims No: 21-0824V

780. Ramon Pinon, Seattle, Washington, Court of Federal Claims No: 21-0825V

781. Kacy Barker, Boston, Massachusetts, Court of Federal Claims No: 21-0826V

782. Kim Hill, Russellville, Alabama, Court of Federal Claims No: 21-0848V

[FR Doc. 2021-03610 Filed 2-22-21; 8:45 am]

BILLING CODE 4165-15-P